DEPARTMENT OF DEFENSE

Department of the Air Force

Notice of Intent To Grant an Exclusive Patent License

Pursuant to the provisions of part 404 of Title 37, Code of Federal Regulations, which implements Public Law 96-517, as amended, the Department of the Air Force announces its intention to grant Hybrid Plastics, Inc., a California corporation, an exclusive license in U.S. Patent No. 5,939,576 entitled, “Method of Functionalizing Polycyclic Silicones and the Compounds So Formed,” issued August 17, 1999; U.S. Patent No. 5,942,638 entitled, “Method of Functionalizing Polycyclic Silicones and the Resulting Compounds,” issued August 24, 1999; and U.S. Patent No. 6,100,417 entitled, “Functionalizing Olefin Bearing Silsesquioxanes,” issued August 8, 2000.

A license for these patents will be granted unless a written objection is received within 60 days from the date of publication of this Notice. Information concerning this Notice may be obtained from Mr. William H. Anderson, Associate General Counsel (Acquisition), SAF/GCQ, 1500 Wilson Blvd., Suite 304, Arlington, VA 22209-2310. Mr. Anderson can be reached at 703-588-5090 or by fax at 703-588-8037.

Janet A. Long,
Air Force Federal Register Liaison Officer.

[FR Doc. 01-16270 Filed 6-27-01; 8:45 am]

BILLING CODE 5001-05-U